DEPARTMENT OF HEALTH AND HUMAN SERVICES

Office of the National Coordinator for Health Information Technology; American Health Information Community Meeting

ACTION: Announcement of meeting.

SUMMARY: This notice announces the 11th meeting of the American Health Information Community in accordance with the Federal Advisory Committee Act (Pub. L. 92-463, 5 U.S.C., app.) The American Health Information Community will advise the Secretary and recommend specific actions to achieve a common interoperability framework for health information technology (IT).

DATES: January 23, 2007, from 8:30 a.m. to 4:30 p.m.

ADDRESSES: Hubert H. Humphrey Building (200 Independence Avenue, SW., Washington, DC 20201), Conference Room 800.

FOR FURTHER INFORMATION CONTACT: Visit http://www.hhs.gov/healthit/ahic.html.

SUPPLEMENTARY INFORMATION: The meeting will include presentations by the Consumer Empowerment, Biosurveillance, Confidentiality, Privacy and Security, and Quality Workgroups on their Recommendations and also a demonstration of prototypes of the Nationwide Health Information Network (NHIN).

A Web site of the Community meeting will be available on the NIH Web site at: http://ww.videocast.nih.gov/.

If you have special needs for the meeting, please contact (202) 690-7151.

Dated: December 19, 2006.
Judith Sparrow,
Director, American Health Information Community, Office of Programs and Coordination, Office of the National Coordinator for Health Information Technology.

[FR Doc. 06-9931 Filed 12-28-06; 8:45 am]

BILLING CODE 4150-24-M